ENVIRONMENTAL PROTECTION AGENCY

40 CFR Part 52

[MS-200923; FRL-9088-6]

Approval and Promulgation of Air Quality Implementation Plans; Mississippi; Update to Materials Incorporated by Reference

AGENCY: Environmental Protection Agency (EPA).

ACTION: Final rule; administrative change.

SUMMARY: EPA is publishing this action to provide the public with notice of the update to the Mississippi State Implementation Plan (SIP) compilation. In particular, materials submitted by Mississippi that are incorporated by reference (IBR) into the Mississippi SIP are being updated to reflect EPA-approved revisions to Mississippi's SIP that have occurred since the last update. In this action, EPA is also notifying the public of the correction of certain typographical errors.

DATES: This action is effective January 13, 2010.

ADDRESSES: SIP materials which are incorporated by reference into 40 CFR part 52 are available for inspection at the following locations: Environmental Protection Agency, Region 4, 61 Forsyth Street, SW., Atlanta, GA 30303; the Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call 202-741-6030, or go to: http://www.archives.gov/federal-register/cfr/ibr-locations.html.

FOR FURTHER INFORMATION CONTACT: Ms. Twunjala Bradley at the above Region 4 address or at (404) 562-9352.

SUPPLEMENTARY INFORMATION: Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the SIP to EPA. Once these control measures and strategies are approved by EPA, after notice and comment, they are incorporated into the federally approved SIP and are identified in part 52 “Approval and Promulgation of Implementation Plans,” Title 40 of the Code of Federal Regulations (40 CFR part 52). The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on SIP revisions containing new and/or revised regulations as being part of the SIP. On May 22, 1997, (62 FR 27968), EPA revised the procedures for incorporating by reference, into the CFR, materials submitted by states in their EPA-approved SIP revisions. These changes revised the format for the identification of the SIP in 40 CFR part 52, stream-lined the mechanisms for announcing EPA approval of revisions to a SIP, and stream-lined the mechanisms for EPA's updating of the IBR information contained for each SIP in 40 CFR part 52. The revised procedures also called for EPA to maintain “SIP Compilations” that contain the federally-approved regulations and source specific permits submitted by each state agency. These SIP Compilations are contained in 3-ring binders and are updated primarily on an annual basis. Under the revised procedures, EPA is to periodically publish an informational document in the rules section of the Federal Register when updates are made to a SIP Compilation for a particular state. EPA's 1997 revised procedures were formally applied to Mississippi on July 1, 1997 (62 FR 35441).

This action represents EPA's publication of the Mississippi SIP Compilation update, appearing in 40 CFR part 52. In addition, notice is provided of the following typographical corrections to Table (c) of paragraph 52.1270, as described below:

1. Correcting typographical errors listed in Table 1 of paragraph 52.127(c), as described below:

A. State Citation APC-S-1 Section 6 State Effective Date is revised to read “5/28/99.”

B. State Citation APC-S-2 Sections I thru XVII EPA Approval Date and Citation is revised to read “7/10/06, 71 FR 38773” respectively.

C. State Citation APC-S-2 Section I State Effective Date is revised to read “8/27/05.”

D. State Citation APC-S-2 Section XVI EPA Approval Date Citation is revised to read “71 FR 38773.”

E. State Citation APC-S-2 is revised to read, “Section I.”

F. State Citation APC-S-3 Section 2 is revised to read “2/4/72.”

2. Revising the date format listed in paragraphs 52.1270(c). Revise the date format in the “State effective date,” and “EPA approval date,” columns for consistency. Dates are numerical month/day/year without additional zeros.

EPA has determined that today's action falls under the “good cause” exemption in the section 553(b)(3)(B) of the Administrative Procedure Act (APA) which, upon finding “good cause,” authorizes agencies to dispense with public participation and section 553(d)(3) which allows an agency to make an action effective immediately (thereby avoiding the 30-day delayed effective date otherwise provided for in the APA). Today's administrative action simply codifies provisions which are already in effect as a matter of law in Federal and approved state programs and corrects typographical errors appearing the Federal Register. Under section 553 of the APA, an agency may find good cause where procedures are “impractical, unnecessary, or contrary to the public interest.” Public comment for this administrative action is “unnecessary” and “contrary to the public interest” since the codification (and typographical corrections) only reflect existing law. Immediate notice of this action in the Federal Register benefits the public by providing the public notice of the updated Mississippi SIP Compilation and notice of typographical corrections to the Mississippi “Identification of Plan” portion of the Federal Register.

Statutory and Executive Order Reviews

A. General Requirements

Under Executive Order 12866 (58 FR 51735, October 4, 1993), this administrative action is not a “significant regulatory action” and is therefore not subject to review by the Office of Management and Budget. This action is not subject to Executive Order 13211, “Actions Concerning Regulations That Significantly Affect Energy Supply, Distribution, or Use” (66 FR 28355, May 22, 2001) because it is not a significant regulatory action under Executive Order 12866. Because the Agency has made a “good cause” finding that this action is not subject to notice-and-comment requirements under the APA or any other statute as indicated in the Supplementary Information section above, it is not subject to the regulatory flexibility provisions of the Regulatory Flexibility Act (5 U.S.C 601 et seq.), or to sections 202 and 205 of the Unfunded Mandates Reform Act (UMRA) of 1995 (Pub. L. 104-4). In addition, this action does not significantly or uniquely affect small governments or impose a significant intergovernmental mandate, as described in sections 203 and 204 of UMRA. This administrative action also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This administrative action also is not subject to Executive Order 13045 (62 FR 19885, April 23, 1997), because it is not economically significant. This administrative action does not involve technical standards; thus the requirements of section 12(d) of the National Technology Transfer and Advancement Act of 1995 (15 U.S.C. 272 note) do not apply. The administrative action also does not involve special consideration of environmental justice related issues as required by Executive Order 12898 (59 FR 7629, February 16, 1994). This administrative action does not impose an information collection burden under the Paperwork Reduction Act of 1995 (44 U.S.C. 3501 et seq.). EPA's compliance with these Statutes and Executive Orders for the underlying rules are discussed in previous actions taken on the State's rules.

B. Submission to Congress and the Comptroller General

The Congressional Review Act (CRA) (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's administrative action simply codifies (and corrects) provisions which are already in effect as a matter of law in Federal and approved State programs. 5 U.S.C. 808(2). These announced actions were effective when EPA approved them through previous rulemaking actions. EPA will submit a report containing this action and other required information to the U.S. Senate, the U.S. House of Representatives, and the Comptroller General of the United States prior to publication of this action in the Federal Register. This update to Mississippi's SIP Compilation and correction of typographical errors is not a “major rule” as defined by 5 U.S.C. 804(2).

C. Petitions for Judicial Review

EPA has also determined that the provisions of section 307(b)(1) of the Clean Air Act pertaining to petitions for judicial review are not applicable to this action. This action is simply an announcement of prior rulemakings that have previously undergone notice and comment rulemaking. Prior EPA rulemaking actions for each individual component of the Mississippi SIP compilation previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 6, 2009.
Beverly H. Banister,
Acting Regional Administrator, Region 4.

40 CFR part 52 is amended as follows:

PART 52—[AMENDED]

1. The authority citation for part 52 continues to read as follows:

Authority: 42 U.S.C. 7401 et seq.

Subpart Z—Mississippi

2. Section 52.1270 paragraphs (b) and (c) are revised to read as follows:

§ 52.1270 Identification of plan.

* * * * *

(b) Incorporation by reference.

(1) Material listed in paragraph (c) of this section with an EPA approval date prior to October 3, 2007, for Mississippi was approved for incorporation by reference by the Director of the Federal Register in accordance with 5 U.S.C. 552(a) and 1 CFR part 51. Material is incorporated as it exists on the date of the approval, and notice of any change in the material will be published in the Federal Register. Entries in paragraphs (c) and (d) of this section with EPA approval dates after October 3, 2007, for Mississippi will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1).

(3) Copies of the materials incorporated by reference may be inspected at the Region 4 EPA Office at 61 Forsyth Street, SW., Atlanta, GA 30303, the Air and Radiation Docket and Information Center, EPA Headquarters Library, Infoterra Room (Room Number 3334), EPA West Building, 1301 Constitution Ave., NW., Washington, DC 20460, and the National Archives and Records Administration. If you wish to obtain materials from a docket in the EPA Headquarters Library, please call the Office of Air and Radiation (OAR) Docket/Telephone number: (202) 566-1742. For information on the availability of this material at NARA, call 202-741-6030, or go to: http://www.archives.gov/federal-register/cfr/ibr-locations.html.

(c) EPA Approved Mississippi Regulations.

EPA-Approved Mississippi Regulations
State citation | Title/subject | State effective date | EPA approval date | Explanation
APC-S-1 Air Emission Regulations for the Prevention, Abatement, and Control of Air Contaminants
Section 1 | General | 1/9/94 | 2/12/96, 61 FR 5295
Section 2 | Definitions | 1/9/94 | 2/12/96, 61 FR 5295
Section 3 | Specific Criteria for Sources of Particulate Matter | 5/28/99 | 12/20/02, 67 FR 77926
Section 4 | Specific Criteria for Sources of Sulfur Compounds | 1/9/94 | 2/12/96, 61 FR 5295
Section 5 | Specific Criteria for Sources of Chemical Emissions | 1/9/94 | 2/12/96, 61 FR 5295
Section 6 | New Sources | 5/28/99 | 12/20/02, 67 FR 77926 | Subsection 2, “Other Limitations,” and Subsection 3, “New Source Performance Standards,” are not federally approved.
Section 7 | Exceptions | 2/4/72 | 5/31/72, 37 FR 10875
Section 9 | Stack Height Considerations. | 5/1/86 | 9/23/87, 52 FR 35704
Section 10 | Provisions for Upsets, Startups, and Shutdowns | 1/9/94 | 2/12/96, 61 FR 5295
Section 11 | Severability | 1/9/94 | 2/12/96, 61 FR 5295
Section 14 | Provision for the Clean Air Interstate Rule | 12/17/06 | 10/3/07, 72 FR 56268
APC-S-2 Permit Regulations for the Construction and/or Operation of Air Emissions Equipment
Section I | General Requirements | 8/27/05 | 7/10/06, 71 FR 38773
Section II | General Standards Applicable to All Permits | 8/27/05 | 7/10/06, 71 FR 38773
Section III | Application For Permit To Construct and State Permit To Operate New Stationary Source | 8/27/05 | 7/10/06, 71 FR 38773
Section IV | Public Participation and Public Availability of Information | 8/27/05 | 7/10/06, 71 FR 38773
Section V | Application Review | 8/27/05 | 7/10/06, 71 FR 38773
Section VI | Compliance Testing | 8/27/05 | 7/10/06, 71 FR 38773
Section VII | Emission Evaluation Report | 8/27/05 | 7/10/06, 71 FR 38773
Section VIII | Procedures for Renewal of State Permit To Operate | 8/27/05 | 7/10/06, 71 FR 38773
Section IX | Reporting and Record Keeping | 8/27/05 | 7/10/06, 71 FR 38773
Section X | Emission Reduction Schedule | 8/27/05 | 7/10/06, 71 FR 38773
Section XI | General Permits | 8/27/05 | 7/10/06, 71 FR 38773
Section XII | Multi-Media Permits | 8/27/05 | 7/10/06, 71 FR 38773
Section XIII | Exclusions | 8/27/05 | 7/10/06, 71 FR 38773
Section XIV | CAFO | 8/27/05 | 7/10/06, 71 FR 38773
Section XV | Options | 8/27/05 | 7/10/06, 71 FR 38773
Section XVI | Permit Transfer | 8/27/05 | 7/10/06, 71 FR 38773
Section XVII | Severability | 8/27/05 | 7/10/06, 71 FR 38773
APC-S-3 Regulations for the Prevention of Air Pollution Emergency Episodes
Section 1 | General | 2/4/72 | 5/31/72, 37 FR 10875
Section 2 | Definitions | 2/4/72 | 5/31/72, 37 FR 10875
Section 3 | Episode Criteria | 6/3/88 | 11/13/89, 54 FR 47211
Section 4 | Emission Control Action Programs | 2/4/72 | 5/31/72, 37 FR 10875
Section 5 | Emergency Orders | 6/3/88 | 11/13/89, 54 FR 47211
APC-S-5 Regulations for the Prevention of Significant Deterioration of Air Quality
All |  | 8/27/05 | 7/10/06, 71 FR 38773. |

* * * * *

[FR Doc. 2010-348 Filed 1-12-10; 8:45 am]

BILLING CODE 6560-50-P